NUCLEAR REGULATORY COMMISSION

[NRC-2025-0001]

Sunshine Act Meetings

TIME AND DATE: Weeks of December 1, 8, 15, 22, and 29, 2025 and January 5, 2026. The schedule for Commission meetings is subject to change on short notice. The NRC Commission Meeting Schedule can be found on the internet at: https://www.nrc.gov/public-involve/public-meetings/schedule.html.

PLACE: The NRC provides reasonable accommodation to individuals with disabilities where appropriate. If you need a reasonable accommodation to participate in these public meetings or need this meeting notice or the transcript or other information from the public meetings in another format (e.g., braille, large print), please contact the Reasonable Accommodations Resource by email at Reasonable_Accommodations.Resource@nrc.gov. Determinations on requests for reasonable accommodation will be made on a case-by-case basis.

STATUS: Public.

Members of the public may request to receive the information in these notices electronically. If you would like to be added to the distribution, please contact the Nuclear Regulatory Commission, Office of the Secretary, Washington, DC 20555, at 301-415-1969, or by email at Betty.Thweatt@nrc.gov or Samantha.Miklaszewski@nrc.gov.

MATTERS TO BE CONSIDERED:

Week of December 1, 2025

There are no meetings scheduled for the week of December 1, 2025.

Week of December 8, 2025—Tentative

There are no meetings scheduled for the week of December 6, 2025.

Week of December 15, 2025—Tentative

There are no meetings scheduled for the week of December 15, 2025.

Week of December 22, 2025—Tentative

There are no meetings scheduled for the week of December 22, 2025.

Week of December 29, 2025—Tentative

There are no meetings scheduled for the week of December 29, 2025.

Week of January 5, 2026

There are no meetings scheduled for the week of January 5, 2026.

CONTACT PERSON FOR MORE INFORMATION: For more information or to verify the status of meetings, contact Wesley Held at 301-287-3591 or via email at Wesley.Held@nrc.gov.

The NRC is holding the meetings under the authority of the Government in the Sunshine Act, 5 U.S.C. 552b.

Dated: November 26, 2025.
For the Nuclear Regulatory Commission.
Wesley W. Held,
Policy Coordinator, Office of the Secretary.

[FR Doc. 2025-21704 Filed 11-26-25; 4:15 pm]

BILLING CODE 7590-01-P